DEPARTMENT OF COMMERCE

International Trade Administration

Continuation of Antidumping Duty Order: Certain Concrete Reinforcing Bars from Turkey

[A-489-807]

AGENCY: Import Administration, International Trade Administration, Department of Commerce.

ACTION: Notice of Continuation of Antidumping Duty Order: Certain Concrete Reinforcing Bars from Turkey.

SUMMARY: On July 9, 2002, the Department of Commerce (“the Department”), pursuant to sections 751(c) and 752 of the Tariff Act of 1930, as amended (“the Act”), determined that revocation of the antidumping duty order on certain concrete reinforcing bars from Turkey would be likely to lead to continuation or recurrence of dumping.¹ On March 3, 2003, the International Trade Commission (“the Commission”), pursuant to section 751(c) of the Act, determined that revocation of the antidumping duty order on certain concrete reinforcing bars from Turkey would be likely to lead to continuation or recurrence of material injury to an industry in the United States within a reasonably foreseeable time.² Therefore, pursuant to 19 CFR 351.218(f)(4), the Department is publishing notice of the continuation of the antidumping duty order on certain concrete reinforcing bars from Turkey.

¹ Final Results of Expedited Sunset Review: Certain Concrete Reinforcing Bars from Turkey, 67 FR 45457 (July 9, 2002).

² Steel Concrete Reinforcing Bar From Turkey, 68 FR 10032 (March 3, 2003).

EFFECTIVE DATE: March 26, 2003.

FOR FURTHER INFORMATION CONTACT: Martha V. Douthit or James P. Maeder, Jr., Office of Policy for Import Administration, International Trade Administration, U.S. Department of Commerce, 14th Street and Constitution Ave., NW, Washington, D.C. 20230; telephone: (202) 482-5050 or (202) 482-3330, respectively.

SUPPLEMENTARY INFORMATION:

Background

On March 1, 2002, the Department initiated, and the Commission instituted, a sunset review of the antidumping duty order on certain concrete reinforcing bars from Turkey pursuant to section 751(c) of the Act.³ As a result of its review, the Department found that revocation of the antidumping duty order would be likely lead to continuation or recurrence of dumping and notified the Commission of the magnitude of the margin likely to prevail were the order to be revoked.⁴

³ Antidumping and Countervailing Duties: Five Year Reviews, 67 FR 9439 (March 1, 2002).

⁴ Final Results of Expedited Sunset Review: Certain Concrete Reinforcing Bars from Turkey, 67 FR 45457 (July 9, 2002).

On March 3, 2003, the Commission determined, pursuant to section 751(c) of the Act, that revocation of the antidumping duty order on certain concrete reinforcing bars from Turkey would be likely to lead to continuation or recurrence of material injury to an industry in the United States within a reasonably foreseeable time.⁵

⁵ Steel Concrete Reinforcing Bar From Turkey, 68 FR 10032 (March 3, 2003), and USITC Publication 3577 (February 2003), Investigation No.731-TA-745 (Review).

Scope

The product covered by this antidumping duty order is all stock deformed steel concrete reinforcing bars sold in straight lengths and coils. This includes all hot-rolled deformed rebar rolled from billet steel, rail steel, axle steel, or low-alloy steel. It excludes (i) plain round rebar, (ii) rebar that a processor has further worked or fabricated, and (iii) all coated rebar. Deformed rebar is currently classifiable in the Harmonized Tariff Schedule of the United States (“HTSUS”) under item numbers 7213.10.000 and 7214.20.000. The HTSUS subheadings are provided for convenience and customs purposes. The written description of the scope remains dispositive.

Determination

As a result of the determinations by the Department and the Commission that revocation of this antidumping duty order would be likely to lead to continuation or recurrence of dumping and material injury to an industry in the United States, pursuant to section 751(d)(2) of the Act, the Department hereby orders the continuation of the antidumping duty order on certain concrete reinforcing bars from Turkey. The Department will instruct Customs Service to continue to collect antidumping duty deposits at the rates in effect at the time of entry for all imports of subject merchandise. The effective date of continuation of this order will be the date of publication in the Federal Register of this Notice of Continuation. Pursuant to section 751(c)(2) and 751(c)(6) of the Act, the Department intends to initiate the next five-year review of this order not later than thirty (30) days before the fifth anniversary of the effective date of this notice.

Dated: March 20, 2003.
Joseph A. Spetrini,
Acting Assistant Secretary for Import Administration.

[FR Doc. 03-7260 Filed 3-25-03; 8:45 am]

BILLING CODE 3510-DS-S